DEPARTMENT OF TRANSPORTATION

Maritime Administration

[Docket No. MARAD-2024-0136]

Request for Comments on the Renewal of a Previously Approved Collection: Port Infrastructure Development Program

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0552 (Port Infrastructure Development Program) is being updated to reflect the elimination of the MA-1083 Port Infrastructure Development Program (PIDP) Project Information Form, which is no longer needed. The total respondents and public burden have also reduced since this collection was implemented in 2019. We are required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Jonathan Holt, 202-366-8713, Office of Port Infrastructure Development, Maritime Administration, 1200 New Jersey Avenue SE, Washington, DC 20590, Email: Jonathan.Holt@dot.gov.

SUPPLEMENTARY INFORMATION:

Title: Port Infrastructure Development Program.

OMB Control Number: 2133-0552.

Type of Request: Extension With Change of a Currently Approved Collection.

Abstract: The Infrastructure Investment and Jobs Act (Pub. L. 117-58, November 15, 2021) (“Bipartisan Infrastructure Law” or “BIL”) appropriated $450 million to the PIDP for FY 2024 to make discretionary grants for eligible projects. On March 9, 2024, the Consolidated Appropriations Act, 2024 (Pub. L. 118-42) (“FY 2024 Appropriations Act”) appropriated an additional $120,460,124 for the FY 2024 PIDP grant program. Of that amount, $50 million is available to be awarded as discretionary grants. Altogether, a total $500 million in funding is now available to be awarded by the U.S. Department of Transportation (Department) for the Port Infrastructure Development Program (Program). This appropriations act allows the Department to make discretionary grants to improve port facilities at or near coastal seaports. The purpose of the Program is to accept applications to make grants. Submitted applications will be reviewed to determine if respondents meet the criteria for selection as grant recipients.

The Port Infrastructure Development Program was established under 46 U.S.C. 50302. The statute authorizes the Department of Transportation (“Department” or “DOT”) to establish a port infrastructure development program for the improvement of port facilities. To carry out a project under this program, the Department may provide financial assistance, including grants to port authorities or commissions, or to their subdivisions and agents, for port and intermodal infrastructure-related projects.

The Department seeks to fund projects that will advance Departmental priorities of safety, equity, Justice40, climate and sustainability, workforce development, job quality, and wealth creation, as described in the DOT's Strategic Plan and executive orders. MARAD encourages applicants to propose projects that will improve safety, efficiency, or the reliability of the movement of goods through ports and intermodal connection to ports, and reduce greenhouse gas emissions in the transportation sector. Proposed projects must also create proportional impacts to all populations in a project area, increase equitable access to project benefits, support the creation of good-paying jobs with the free and fair choice to join a union, and include the incorporation of strong labor standards, training, and placement programs, especially registered apprenticeships.

Respondents: A State, a political subdivision of a State or a local government, a public agency or publicly chartered authority established by one or more States, a special purpose district with a transportation function, an Indian Tribe or consortium of Indian Tribes, a multistate or multijurisdictional group of entities, or a lead entity described above jointly with a private entity or group of private entities (including the owners or operators of a facility, or collection of facilities, at a port).

Affected Public: State, Local or Tribal Government.

Estimated Number of Respondents: 200.

Estimated Number of Responses: 200.

Estimated Hours per Response: 160.

Annual Estimated Total Annual Burden Hours: 32,000.

Frequency of Response: Once Annually.

A 60-day Federal Register Notice soliciting comments on this information collection was published on July 29, 2024, in the Federal Register (FR 60966, Vol. 89, No. 145). The posting received one comment, which expressed support for the continued collection of information about program applicants to PIDP, and concern that the elimination of form MA-1083 would result in a loss of information about applicants to the program. MARAD does not agree that without the form, MARAD will lose information about program applicants. The MA-1083 form has not been required from PIDP applicants for multiple fiscal years, without major impacts to the grant program or its operations. Program staff are confident that necessary information about PIDP applicants will continue to be collected without the required MA-1083 form. Additionally, the elimination of the required form will provide modest reductions in the annual burden for PIDP applicants.

(Authority: The Paperwork Reduction Act of 1995; 44 U.S.C. chapter 35, as amended; and 49 CFR 1.49).

By Order of the Maritime Administrator.
T. Mitchell Hudson, Jr.,
Secretary, Maritime Administration.

[FR Doc. 2024-24293 Filed 10-18-24; 8:45 am]

BILLING CODE 4910-81-P